FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 24, 2015.

A. Federal Reserve Bank of Minneapolis (Jacquelyn K. Brunmeier, Assistant Vice President) 90 Hennepin Avenue, Minneapolis, Minnesota 55480-0291:

1. Colter Cumin, Deer Lodge, Montana; to acquire voting shares of First Security Group, and thereby indirectly acquire voting shares of First Security Bank of Deer Lodge, both in Deer Lodge, Montana.

B. Federal Reserve Bank of San Francisco (Gerald C. Tsai, Director, Applications and Enforcement) 101 Market Street, San Francisco, California 94105-1579:

1. Castle Creek Capital Partners V, LP, and persons or entities that are acting with or control Castle Creek Capital Partners V, LP, including Castle Creek Capital V LLC, Castle Creek Advisors IV LLC, JME Advisory Corp., Legions IV Corp., Mikesell Advisory Corp., Pietrzak Advisory Corp., Scavuzzo Advisory Corp., Volk Advisory Corp., Rana Advisory Corp., Szumski Advisory Corp., John M. Eggemeyer, III, Mark G. Merlo, J. Mikesell Thomas, John T. Pietrzak, Anthony R. Scavuzzo, David J. Volk, Sundeep Rana, and Martin Szumski, all of Rancho Santa Fe, California, and Mayo Clinic and Mayo Clinic Master Retirement Trust, of Rochester, Minnesota; to acquire voting shares of Guaranty Federal Bancshares, Inc., and thereby indirectly acquire voting shares of Guaranty Bank, both in Springfield, Missouri.

Board of Governors of the Federal Reserve System, November 4, 2015.
Michael J. Lewandowski,
Associate Secretary of the Board.

[FR Doc. 2015-28468 Filed 11-9-15; 8:45 am]

BILLING CODE 6210-01-P